DEPARTMENT OF HEALTH AND HUMAN SERVICES

Centers for Disease Control and Prevention

Savannah River Site Dose Reconstruction Project

AGENCY: The Centers for Disease Control and Prevention (CDC) and the Agency for Toxic Substances and Disease Registry (ATSDR).

ACTION: CDC and ATSDR announce the following meeting.

Name: Public Meeting to Present Final Report of the Savannah River Site Dose Reconstruction Project.

Time and Date: 6 p.m.-8 p.m., (Eastern Time), Tuesday, September 19, 2006.

Place: University of South Carolina/Aiken, Conference Center/Business and Education Building, Room 122, 471 University Parkway, Parking Lot “C”, Aiken, South Carolina 29801.

Status: Open to the public, limited only by the space available. The meeting room accommodates approximately 50 people.

Background: Under a Memorandum of Understanding (MOU) signed in December 1990 with DOE, and replaced by MOUs signed in 1996 and 2000, the Department of Health and Human Services (HHS) was given the responsibility and resources for conducting analytic epidemiologic investigations of residents of communities in the vicinity of DOE facilities, workers at DOE facilities, and other persons potentially exposed to radiation or to potential hazards from non-nuclear energy production use. HHS delegated program responsibility to CDC.

In addition, a memo was signed in October 1990 and renewed in November 1992, 1996, and in 2000, between ATSDR and DOE. The MOU delineates the responsibilities and procedures for ATSDR's public health activities at DOE sites required under sections 104, 105, 107, and 120 of the Comprehensive Environmental Response, Compensation, and Liability Act (CERCLA or “Superfund”). These activities include health consultations and public health assessments at DOE sites listed on, or proposed for, the Superfund National Priorities List and at sites that are the subject of petitions from the public; and other health-related activities such as epidemiologic studies, health surveillance, exposure and disease registries, health education, substance-specific applied research, emergency response, and preparation of toxicological profiles.

Purpose: CDC will present the Final Report of the Savannah River Site Dose Reconstruction Project to area stakeholders and provide a forum for community interaction. This meeting will also serve as a vehicle for members of the public to express concerns to CDC.

Matters To Be Discussed: The National Center for Environmental Health (NCEH) will make a presentation of the Final Report of the Savannah River Site Dose Reconstruction Project. There will be time for public questions and comments. Agenda items are subject to change as priorities dictate.

Contact Person For Additional Information: Phillip R. Green, Public Health Advisor, Radiation Studies Branch, Division of Environmental Hazards and Health Effects, NCEH, CDC, 1600 Clifton Road, NE., (MS-E39), Atlanta, GA 30333, telephone 404/498-1717, fax 404/498-1811, or e-mail address: prg1@cdc.gov

Dated: August 23, 2006.
James D. Seligman,
Chief Information Officer, Centers for Disease Control and Prevention (CDC).

[FR Doc. E6-14424 Filed 8-29-06; 8:45 am]

BILLING CODE 4163-18-P